DEPARTMENT OF ENERGY

Federal Energy Regulatory Commission

[Docket No. ER04-419-003, et al.]

Xcel Energy Services, Inc., et al.; Electric Rate and Corporate Filings

July 28, 2004.

The following filings have been made with the Commission. The filings are listed in ascending order within each docket classification.

1. Xcel Energy Services Inc

[Docket No. ER04-419-003]

Take notice that on July 26, 2004, Xcel Energy Services Inc. (XES) submitted a compliance filing pursuant to the Commission's order issued June 25, 2004, in Docket No. ER04-419-002. The compliance tariff sheets are designated First Revised Sheet Nos. 151 through 309 and Original Sheet Nos. 310 through 323 to Xcel Energy Operating Companies' Joint Open Access Transmission Tariff, First Revised Volume No. 1. XES requests an effective date of April 26, 2004.

Comment Date: 5 p.m. eastern time on August 16, 2004.

2. Southern Company Services, Inc.

[Docket No. ER04-459-002]

Take notice that, on July 26, 2004, Southern Company Services, Inc. (SCS) submitted a compliance filing pursuant to a Commission order issued June 25, 2004, in Docket No. ER04-459-001, 107 FERC ¶ 61,317.

SCS states that copies of the filing were served on parties on the official service list in the above-captioned proceeding.

Comment Date: 5 p.m. eastern time on August 16, 2004.

3. Olde Towne Energy Associates, LLC

[Docket No. ER04-942-001]

Take notice that on July 26, 2004, Olde Towne Energy Associates, LLC (OTEA) submitted a supplement to its June 21, 2004, Petition for Acceptance of Initial Rate Schedule, Waivers and Blanket Authority.

Comment Date: 5 p.m. eastern time on August 16, 2004.

4. Florida Power Corporation

[Docket No. ER04-1041-000]

Take notice that July 23, 2004, Florida Power Corporation, doing business as Progress Energy Florida, (Florida Power) tendered for filing First Revised Sheet No. 17 to its Rate Schedule FERC No. 102 providing updated charges for its contract for assured capacity and energy with Florida Power & Light (FPL) pursuant to part 35 of the Commission's regulations. Florida Power states that the sheet was inadvertently omitted from Florida Power's May 7, 2004, filing of cost support and updated charges for interchange service in Docket No. ER04-822-000. Florida Power requests an effective date of May 1, 2004.

Florida Power states that copies of the filing were served on FPL and the Florida Public Service Commission.

Comment Date: 5 p.m. eastern time on August 13, 2004.

5. Illinois Power Company

[Docket No. ER04-1042-000]

Take notice that on July 26, 2004, Illinois Power Company (Illinois Power) submitted for filing Second Revised Service Agreement No. 355 under Illinois Power's FERC Electric Tariff Third Revised Volume No. 8, for Network Integration Transmission Service entered into by Illinois Power Company (Illinois Power) and Soyland Power Cooperative, Inc. Illinois Power requests an effective date of July 24, 2004.

Comment Date: 5 p.m. eastern time on August 16, 2004.

6. PJM Interconnection, L.L.C.

[Docket No. ER04-1043-000]

Take notice that on July 26, 2004, PJM Interconnection, L.L.C. (PJM) submitted Second Revised Sheet No. 230A to PJM's FERC Electric Tariff Sixth Revised Volume No. 1, amendments to Schedule 2 of the PJM Open Access Transmission Tariff to incorporate the revenue requirement for Reactive Supply and Voltage Control from General Sources Service for University Park Energy, LLC (University Park). PJM requests an effective date of June 1, 2004.

PJM states that copies of the filing were served upon all PJM members, including University Park, and each state electric utility regulatory commission in the PJM region.

Comment Date: 5 p.m. eastern time on August 16, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-1721 Filed 8-3-04; 8:45 am]

BILLING CODE 6717-01-P